NATIONAL SCIENCE FOUNDATION

Biological Science Advisory Committee; Notice of Meeting: Correction

Summary: The National Science Foundation (NSF) published in the Federal Register on April 2, 2012, a notice of an open meeting for the Biological Sciences Advisory Committee, #1110. This notice is to correct the year of the meeting date.

Correction

On page 19740, column 2, under Date and Time, please replace “April 26, 2011; 1 p.m. to 3 p.m.” with “April 26, 2012; 1 p.m. to 3 p.m.”

Dated: April 5, 2012.
Susanne Bolton,
Committee Management Officer.

[FR Doc. 2012-8623 Filed 4-10-12; 8:45 am]

BILLING CODE 7555-01-P